DEPARTMENT OF THE INTERIOR

National Park Service

[NPS-WASO-NAGPRA-10729; 2200-1100-665]

Notice of Inventory Completion: History Colorado, Denver, CO

AGENCY: National Park Service, Interior.

ACTION: Notice.

SUMMARY: History Colorado (formerly the Colorado Historical Society) has completed an inventory of human remains and associated funerary objects, in consultation with the appropriate Indian tribes, and has determined that there is insufficient evidence to reasonably establish cultural affiliation between the human remains and associated funerary objects and present-day Indian tribes. Representatives of any Indian tribe that believes itself to be culturally affiliated with the human remains and associated funerary objects may contact History Colorado. Disposition of the human remains and associated funerary objects to the Indian tribes stated below may occur if no additional claimants come forward.

DATES: Representatives of any Indian tribe that believes it has a cultural affiliation with the human remains and associated funerary objects should contact History Colorado at the address below by August 20, 2012.

ADDRESSES: Sheila Goff, NAGPRA Liaison, History Colorado, 1200 Broadway, Denver, CO 80203, telephone (303) 866-4561.

SUPPLEMENTARY INFORMATION: Notice is here given in accordance with the Native American Graves Protection and Repatriation Act (NAGPRA), 25 U.S.C. 3003, of the completion of an inventory of human remains and associated funerary objects under the control of History Colorado, Denver, CO. One set of remains was discovered in Rio Blanco County, CO. The exact locations from which the three additional sets of human remains were recovered are unknown.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

In 2012, a detailed assessment of the human remains and associated funerary objects was made by History Colorado professional staff in consultation with representatives of the Arapahoe Tribe of the Wind River Reservation, Wyoming; Cheyenne and Arapaho Tribes, Oklahoma (formerly the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kewa Pueblo, New Mexico (formerly Pueblo of Santo Domingo); Mescalero Apache Tribe of the Mescalero Reservation, New Mexico; Navajo Nation, Arizona, New Mexico & Utah; Northern Cheyenne Tribe of the Northern Cheyenne Indian Reservation, Montana; Ohkay Owingeh, New Mexico (formerly the Pueblo of San Juan); Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Pawnee Nation of Oklahoma; Pueblo of Acoma, New Mexico; Pueblo of Cochiti, New Mexico; Pueblo of Laguna, New Mexico; Pueblo of Picuris, New Mexico; Pueblo of San Ildefonso, New Mexico; Pueblo of Sandia, New Mexico; Pueblo of Santa Ana, New Mexico; Pueblo of Santa Clara, New Mexico; Pueblo of Taos, New Mexico; Pueblo of Zia, New Mexico; Shoshone Tribe of the Wind River Reservation, Wyoming; Southern Ute Indian Tribe of the Southern Ute Indian Reservation, Colorado; Three Affiliated Tribes of the Fort Berthold Reservation, North Dakota; Ute Mountain Tribe of the Ute Mountain Reservation, Colorado, New Mexico & Utah; Wichita and Affiliated Tribes (Wichita, Keechi, Waco & Tawakonie), Oklahoma; Ysleta del Sur Pueblo of Texas; and the Zuni Tribe of the Zuni Reservation, New Mexico.

The Apache Tribe of Oklahoma; Kiowa Indian Tribe of Oklahoma; Oglala Sioux Tribe of the Pine Ridge Reservation, South Dakota; Pueblo of Isleta, New Mexico; Pueblo of Jemez, New Mexico; Pueblo of Nambe, New Mexico; Pueblo of Pojoaque, New Mexico; Pueblo of San Felipe, New Mexico; Pueblo of Tesuque, New Mexico; Rosebud Sioux Tribe of the Rosebud Indian Reservation, South Dakota; San Juan Southern Paiute Tribe of Arizona; Shoshone-Bannock Tribes of the Fort Hall Reservation of Idaho; Standing Rock Sioux Tribe of North & South Dakota; and the Ute Indian Tribe of the Uintah & Ouray Reservation, Utah, were invited to consult but did not respond.

History and Description of the Remains

In November 2011, human remains representing, at minimum, one individual were inadvertently discovered by a utility crew excavating a flow line within an active oil field owned by Chevron Oil Company in Rio Blanco County, CO. The Office of the State Archaeologist was notified and conferred with the Colorado Commission of Indian Affairs, the Ute Mountain Tribe of the Ute Mountain Reservation, Colorado, New Mexico & Utah, and the landowner. Because the unmarked burial was threatened, the remains were disinterred and transferred to History Colorado. They are identified as Office of Archaeology and Historic Preservation (OAHP) Case Number 282. Osteological analysis determined the remains are of Native American ancestry. No known individuals were identified. The five associated funerary objects are 1 round hammerstone, 2 bone pendants, 1 grayware pottery sherd, and 1 bone awl. The estimated antiquity is unknown.

At an unknown date, a schoolteacher obtained human remains representing, at minimum, one individual. In 2011, after the teacher retired, his successor discovered the remains in the classroom and turned them over to Jefferson County law enforcement, who notified the Office of the State Archaeologist. The remains were transferred to History Colorado in December 2011. They are identified as OAHP Case Number 283. The location from which the remains were removed is not known. Osteological analysis determined that the remains are of Native American ancestry. No known individuals were identified. No associated funerary objects are present. The estimated antiquity is unknown.

Sometime in 1987, human remains representing, at minimum, one individual were removed from Park County, CO, although the exact location is unknown. In 1988, the human remains were transferred to Dr. Michael Charney, a former professor at Colorado State University. Dr. Charney's analysis determined that they were not of forensic interest and that the remains are of Native American ancestry. He reported this to the Park County Coroner and retained the remains. In 1998, the remains were claimed as private property by the widow of Dr. Charney after his death. The human remains were subsequently taken into custody by the Larimer County Sheriff's Office. Following litigation in 2006, the remains were inadvertently returned to Park County because the box they were in stated they were of forensic interest. In December 2011, the Park County Coroner discovered the error and transferred the remains to History Colorado, who had previously received a court order to repatriate all Native American human remains formerly in the possession of Dr. Charney, in accordance with Colorado State burial law and NAGPRA. They are identified as OAHP Case Number 284. Additional osteological analysis by History Colorado confirmed that the remains are of Native American ancestry. No known individuals were identified. No associated funerary objects are present. The estimated antiquity is unknown.

In August 2011, a private citizen reported a discovery of human remains representing, at minimum, one individual to the Clear Creek County coroner. They are identified as OAHP Case Number 285. They were found near the site of a house that had burned down in October 2010. The exact location of removal is unknown. The Office of the State Archaeologist was notified and the remains were transferred to History Colorado in December 2011. Osteological analysis determined that the remains are of Native American ancestry. No known individuals were identified. No associated funerary objects are present. The estimated antiquity is unknown.

Determinations Made by History Colorado

Officials at History Colorado have determined that:

• Pursuant to 25 U.S.C. 3001(2), a relationship of shared group identity cannot be reasonably traced between the Native American human remains described above and any present-day Indian tribe.

• Pursuant to 25 U.S.C. 3001(9), the human remains described above represent the physical remains of four individuals of Native American ancestry.

• Pursuant 25 U.S.C. 3001(3)(A), the five objects described above are reasonably believed to have been placed with or near the individual human remains at the time of death or later as a part of the death rite ceremony.

History Colorado has determined that the human remains are “culturally unidentifiable” under NAGPRA, 43 CFR 10.9 (e)(6). In 2006, History Colorado, in partnership with the Colorado Commission of Indian Affairs, Southern Ute Indian Tribe of the Southern Ute Reservation, Colorado, and the Ute Mountain Tribe of the Ute Mountain Reservation, Colorado, New Mexico & Utah, conducted consultations with the tribes that have ancestral ties to the state of Colorado to develop the process for disposition of culturally unidentifiable Native American human remains and associated funerary objects originating from inadvertent discoveries on Colorado state and private lands. As a result of the consultation, a process was developed, titled Process for Consultation, Transfer, and Reburial of Culturally Unidentifiable Native American Human Remains and Associated Funerary Objects Originating From Inadvertent Discoveries on Colorado State and Private Lands, (2008), (unpublished, on file with the Colorado Office of Archaeology and Historic Preservation).

OAHP 282 was recovered from Rio Blanco County, which is located in the Basin and Plateau Consultation Region, as established by the Process. Tribes with known aboriginal ties to this region and those who have asked to be notified of discoveries in the Basin and Plateau Consultation Region were invited to consult for OAHP 282. All tribes with ancestral ties to Colorado were invited to consult regarding OAHP 283-285, due to their vague provenience information.

The Native American Graves Protection and Repatriation Review Committee (Review Committee) is responsible for recommending specific actions for disposition of culturally unidentifiable human remains. On November 3-4, 2006, the Process was presented to the Review Committee for consideration. A January 8, 2007, letter on behalf of the Review Committee from the Designated Federal Officer transmitted the provisional authorization to proceed with the Process upon receipt of formal responses from the Jicarilla Apache Nation, New Mexico, and Kiowa Indian Tribe of Oklahoma, subject to forthcoming conditions imposed by the Secretary of the Interior. On May 15-16, 2008, the responses from the Jicarilla Apache Nation, New Mexico, and Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

43 CFR 10.11 was promulgated March 15, 2010, providing a process for the disposition of culturally unidentifiable Native American human remains recovered from tribal or aboriginal lands as established by the final judgment of the Indian Claims Commission or U.S. Court of Claims, a treaty, Act of Congress, or Executive Order, or other authoritative governmental sources. There is no evidence indicating that the human remains reported in this notice originated from tribal or aboriginal lands, making them eligible for disposition under the Process.

Additional Requestors and Disposition

Representatives of any other Indian tribe that believes itself to be culturally affiliated with the human remains should contact Sheila Goff, NAGPRA Liaison, History Colorado, 1200 Broadway, Denver, CO 80203, telephone (303) 866-4531, before August 20, 2012. Transfer of control of the human remains to the Southern Ute Indian Tribe of the Southern Ute Reservation, Colorado, and the Ute Mountain Tribe of the Ute Mountain Reservation, Colorado, New Mexico & Utah may proceed after that date if no additional claimants come forward.

History Colorado is responsible for notifying the Apache Tribe of Oklahoma; Arapahoe Tribe of the Wind River Reservation, Wyoming; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kewa Pueblo, New Mexico (formerly Pueblo of Santo Domingo); Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico (formerly the Pueblo of San Juan); Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Rosebud Sioux Tribe of the Rosebud Indian Reservation, South Dakota; San Juan Southern Paiute Tribe of Arizona; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; Wichita and Affiliated Tribes (Wichita, Keechi, Waco & Tawakonie), Oklahoma; Ysleta del Sur Pueblo of Texas; and the Zuni Tribe of the Zuni Reservation, New Mexico that this notice has been published.

Dated: June 27, 2012.
Sherry Hutt,
Manager, National NAGPRA Program.

[FR Doc. 2012-17631 Filed 7-18-12; 8:45 am]

BILLING CODE 4312-50-P